ENVIRONMENTAL PROTECTION AGENCY

[EPA-HQ-OPP-2020-0049; FRL-10006-60]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 27, 2020.

ADDRESSES: Submit your comments, identified by docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Anita Pease, Antimicrobials Division (7507P), main telephone number: (703) 305-7090, email address: ADFRNotices@epa.gov; or, Michael Goodis, Registration Division (7508P), main telephone number: (703)-305-7090, email address: RDFRNotices@epa.gov; or, Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (http://www2.epa.gov/pesticide-registration/public-participation-process-registration-actions).

Notice of Receipt—New Active Ingredients

1. File symbol: 352-OGR, 352-OGE. Docket ID number: EPA-HQ-OPP-2020-0065. Applicant: E.I. du Pont de Nemours & Company (“DuPont”), Chestnut Run Plaza, 974 Centre Road, Wilmington, DE 19805. Product name: Reklemel Technical, Salibro. Active ingredient: Nematicide and Fluazaindolizine 97.3%, 41.15%. Proposed classification/Uses: Carrots, Cucurbit vegetables (crop group 9), Fruiting vegetables (crop group 8-10), Nonbearing citrus fruit (crop group 10-10), Nonbearing stone fruit (crop group 12-12), Nonbearing tree nut (crop group 14-12), Nonbearing small fruit vine climbing subgroup, except fuzzy kiwifruit (crop subgroup 13-07F), and Tuberous and Corm vegetables (crop subgroup 1C). Contact: RD.

2. File symbol: 1677-EAL and 1677-EAA. Docket ID number: EPA-HQ-OPP-2020-0120. Applicant: Ecolab Inc., 1 Ecolab Place, St. Paul, MN 55102. Product name: 919789 and Python Part A. Active ingredient: Antimicrobial—Glycerol Formate at 99.7%. Proposed use: Hospital uses as a sanitizer and a disinfectant. Contact: AD.

3. File symbol: 29964-ET. Docket ID number: EPA-HQ-OPP-2020-0027. Applicant: Pioneer Hi-Bred International, Inc. (Pioneer), 7100 NW 62nd Avenue, P.O. Box 1000, Johnston, Iowa, 50131. Product name: DP23211 Maize. Active ingredient: Plant Incorporated Protectant; DvSSJ1 dsRNA Complementary to the DvSSj1 Gene Sequence from Diabrotica virgifera and the genetic material necessary for its production. Proposed use: Insecticide. Contact: BPPD.

4. File symbol: 29964-ET. Docket ID number: EPA-HQ-OPP-2019-0697. Applicant: Pioneer Hi-Bred International, Inc. (Pioneer), 7100 NW 62nd Avenue, P.O. Box 1000, Johnston, Iowa, 50131. Product name: DP23211 Maize. Active ingredient: Plant Incorporated Protectant; Pseudomonas chlororaphis IPD072Aa protein and the genetic material necessary for its production. Proposed use: Insecticide. Contact: BPPD.

5. File symbol: 89668-I. Docket ID number: EPA-HQ-OPP-2020-0028. Applicant: Mosquito Mate, Inc., 2520 Regency Road, Suite B, Lexington, KY 40503. Product name: WB1 Males. Active ingredient: Microbial Insecticide; Wolbachia pipientis wAlbB strain. Proposed use: Insecticide. Contact: BPPD.

6. File symbol: 94424-E. Docket ID number: EPA-HQ-OPP-2020-0111. Applicant: Ph.D. Group LLC, 14143 Denver West Parkway, Golden, CO 80401. Product name: Sucrose Octanoate esters. Active ingredient: Insecticide/miticide—sucrose octanoate at 85.43%. Proposed use: Manufacturing Use Product. Contact: BPPD.

7. File symbol: 94424-R. Docket ID number: EPA-HQ-OPP-2020-111. Applicant: Ph.D. Group LLC, 14143 Denver West Parkway, Golden, CO 80401. Product name: Organishield. Active ingredient: Insecticide/miticide—sucrose octanoate at 40%. Proposed use: For controlling emergence of adult scared flies when applied to mushroom casing and/or compost prior to spawning; for controlling or suppressing soft-bodied pests in greenhouse, nursery, and field crop use; and for use against Varroa mites on adult honeybees. Contact: BPPD.

Authority: 7 U.S.C. 136 et seq.

Dated: March 19, 2020.
Delores Barber,
Director, Information Technology and Resources Management Division, Office of Pesticide Programs.

[FR Doc. 2020-06457 Filed 3-26-20; 8:45 am]

BILLING CODE 6560-50-P